DEPARTMENT OF HOUSING AND URBAN DEVELOPMENT

[Docket No. FR-5281-N-60]

Notice of Submission of Proposed Information Collection to OMB; Contract and Subcontract Activity Reporting on Minority Business Enterprise (MBE)

AGENCY: Office of the Chief Information Officer, HUD.

ACTION: Notice of proposed information collection.

SUMMARY: The proposed information collection requirement described below will be submitted to the Office of Management and Budget (OMB) for review, as required by the Paperwork Reduction Act. The Department is soliciting public comments on the subject proposal.

DATES: Comments Due Date: September 28, 2009.

ADDRESSES: Interested persons are invited to submit comments regarding this proposal. Comments should refer to the proposal by name and/or OMB approval number (2535-0117) and should be sent to: Lillian L. Deitzer, Departmental Reports Management Officer, QDAM, Department of Housing and Urban Development, 451 Seventh Street, SW., Washington, DC 20410; Telephone (202) 402-8048, (this is not a toll-free number) or e-mail Ms Deitzer at Lillian.L.Deitzer@hud.gov; for a copy of the proposed form and other available information.

FOR FURTHER INFORMATION CONTACT: Lillian L. Deitzer, Reports Management Officer, QDAM, Office of the Chief Information Officer, Department of Housing and Urban Development 451 Seventh Street, SW., Room 4178, Washington, DC 20410; e-mail: Lillian.L.Deitzer@hud.gov; telephone (202) 402-8048; Fax 202-708-3135. (This is not a toll-free number) for other available information. If you are a hearing-or-speech-impaired person, you may reach the above telephone numbers through TTY by calling the toll-free Federal Information Relay Service at 1-800-877-8339.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Contract and Subcontract Activity Reporting on Minority Business Enterprise (MBE).

OMB Control Number if applicable: 2535-0117.

Description of the need for the information and proposed use: The information is collected from developers, borrowers, sponsors, or project managers. Summaries from this report enable HUD to monitor and evaluate progress toward designated Minority Business Enterprise (MBE) Goals of Executive Order 12432. The information is used for the Department's annual report.

Agency form numbers, if applicable: HUD-2516.

Members of Affected Public: Not-for-profit institutions.

Estimation of the total numbers of hours needed to prepare the information collection including number of responses, frequency of responses, and hours of responses: An estimation of the total numbers of hours needed to prepare the Information collection is 5,365, number of respondents is 5,365, frequency of response is `quarterly,” and the hours per Response is 1 hour.

Status of the proposed information collection: Extension of a currently approved collection.

Authority: The Paperwork Reduction Act of 1995, 44 U.S.C. Chapter 35, as amended.

Dated: July 23, 2009.
Lillian Deitzer,
Departmental Reports Management Officer, Office of the Chief Information Officer.

[FR Doc. E9-18089 Filed 7-28-09; 8:45 am]

BILLING CODE 4210-67-P